DEPARTMENT OF THE TREASURY

31 CFR Part 1

Departmental Offices; Disclosure of Records; Freedom of Information Act and Privacy Act of 1974; Implementation

AGENCY: Department of the Treasury.

ACTION: Final rule.

SUMMARY: The Department of the Treasury is amending its regulations concerning the Freedom of Information Act (FOIA), and the Privacy Act, (Privacy Act), by revising regulations to specify new addresses for the Bureau of the Public Debt. We are also identifying a new official responsible for administrative appeals of initial determinations.

EFFECTIVE DATE: May 14, 2002.

FOR FURTHER INFORMATION CONTACT: Edward C. Gronseth, Deputy Chief Counsel, Office of the Chief Counsel, Bureau of the Public Debt, at (304) 480-8692, Edward.Gronseth@bpd.treas.gov or Elizabeth S. Gracia, Senior Attorney, Office of the Chief Counsel, Bureau of the Public Debt, at (304) 480-8692, Lisa.Gracia@bpd.treas.gov.

SUPPLEMENTARY INFORMATION: The Bureau of the Public Debt has decided to move its FOIA and Privacy Act program responsibilities to Parkersburg, West Virginia. We are providing the proper addresses where the public may send the following: (a) Initial FOIA requests, (b) Privacy Act requests for notification, access to records, accountings of disclosure, and amendment of records, (c) FOIA and Privacy Act administrative appeals of initial determinations, and (d) service of process.

Also, we have identified the new official responsible for reviewing FOIA administrative appeals of initial determinations to deny records and for making appellate decisions on initial determinations refusing amendment of records under the Privacy Act. The existing regulations name the “Commissioner of the Public Debt” as the reviewing official. We have determined that the reviewing official should be changed to the “Executive Director, Administrative Resource Center, Bureau of the Public Debt.”

These regulations are being published as a final rule because the amendment does not impose any requirements on any member of the public. This amendment is the most efficient means for us to implement internal requirements for complying with FOIA and the Privacy Act. Pursuant to the administrative procedure provisions in 5 U.S.C. 553, we find good cause that prior notice and other public procedure with respect to this rule are impracticable and unnecessary. We find good cause for making this rule effective on the date of publication in the Federal Register.

In accordance with Executive Order 12866, it has been determined that this final rule is not a “significant regulatory action” and, therefore, does not require a Regulatory Impact Analysis.

Because no notice of proposed rulemaking is required, the provisions of the Regulatory Flexibility Act (5 U.S.C. 601 et seq.) do not apply.

List of Subjects in 31 CFR Part 1

Freedom of Information, Privacy.

Part 1 of Title 31 of the Code of Federal Regulations is amended as follows:

1. The authority citation for part 1 continues to read as follows:

Authority: 5 U.S.C. 301 and 31 U.S.C. 321. Subpart A also issued under 5 U.S.C. 552, as amended. Subpart C also issued under 5 U.S.C. 552a.

PART 1—[AMENDED]

Subpart A—Freedom of Information Act

2. Amend 31 CFR part 1, subpart A, Appendix I-Bureau of the Public Debt to revise paragraphs 3, 4, and 5 to read as follows:

Appendix I-Bureau of the Public Debt

* * * * *

3. Requests for records. Initial determinations under 31 CFR 1.5(h) whether to grant requests for records will be made by the Disclosure Officer of the Bureau of the Public Debt. Requests may be sent to: Freedom of Information Act Request, Disclosure Officer, Administrative Resource Center, Bureau of the Public Debt, Department of the Treasury, 200 Third Street, Room 211, Parkersburg, WV 26101-5312.

4. Administrative appeal of initial determination to deny records. Appellate determinations under 31 CFR 1.5(i) with respect to records of the Bureau of the Public Debt will be made by the Executive Director, Administrative Resource Center, Bureau of the Public Debt. Appeals may be sent to: Freedom of Information Act Appeal, Executive Director, Administrative Resource Center, Bureau of the Public Debt, Department of the Treasury, 200 Third Street, Room 211, Parkersburg, WV 26101-5312.

5. Delivery of process. Service of process will be received by the Chief Counsel, Bureau of the Public Debt, or the delegate of such officer, and shall be delivered to the following location: Chief Counsel's Office, Bureau of the Public Debt, 200 Third Street, Room G-15, Parkersburg, WV 26106-1328.

* * * * *

Subpart C—Privacy Act

3. Amend 31 CFR part 1, Subpart C, APPENDIX I-BUREAU OF THE PUBLIC DEBT, paragraph 2, by revising the last sentence to read as follows:

2.* * *Requests for information and specific guidance on where to send requests for records may be mailed or delivered personally to: Privacy Act Request, Disclosure Officer, Administrative Resource Center, Bureau of the Public Debt, Department of the Treasury, 200 Third Street, Room 211, Parkersburg, WV 26101-5312.

4. Amend 31 CFR part 1, subpart C, APPENDIX I-BUREAU OF THE PUBLIC DEBT, paragraph 3, by removing in the last sentence, “Information Officer, Bureau of the Public Debt, Department of the Treasury, 999 E Street NW., Room 553, Washington, DC 20239.” and adding in its place “Disclosure Officer, Administrative Resource Center, Bureau of the Public Debt, Department of the Treasury, 200 Third Street, Room 211, Parkersburg, WV 26101-5312.”

5. Amend 31 CFR part 1, subpart C, APPENDIX I—BUREAU OF THE PUBLIC DEBT, paragraph 4 as follows:

a. Remove “Commissioner of the Public Debt” and add in its place “Executive Director, Administrative Resource Center, Bureau of the Public Debt;”

b. Remove “999 E Street NW., Room 503, Washington, DC 20239.” and add in its place “200 Third Street, Room G-15, Parkersburg, WV 26106-1328.”

6. Amend 31 CFR part 1, subpart C, APPENDIX I—BUREAU OF THE PUBLIC DEBT, paragraph 6, by removing “999 E Street NW., Room 503, Washington, DC 20239.” and adding in its place “200 Third Street, Room G-15, Parkersburg, WV 26106-1328.”

Dated: April 15, 2002.
W. Earl Wright, Jr.,
Chief Management and Administrative Programs Officer.

[FR Doc. 02-11885 Filed 5-13-02; 8:45 am]

BILLING CODE 4810-39-P